DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Evaluations of Coastal Zone Management Act Programs: State Coastal Management Programs and National Estuarine Research Reserves.

OMB Control Number: None.

Form Number(s): NA.

Type of Request: Regular submission (request for a new information collection).

Number of Respondents: 468.

Average Hours per Response: Information from program managers, 55 (every five years); stakeholder surveys, 30 minutes.

Burden Hours: 943.

Needs and Uses: This request is for a new information collection.

The Coastal Zone Management Act of 1972, as amended (CZMA; 16 U.S.C. 1451 et seq.) requires that state coastal management programs and national estuarine research reserves developed pursuant to the CZMA and approved by the Secretary of Commerce be evaluated periodically. This request is for to collect information to accomplish those evaluations.

Section 1458 of the CZMA and implementing regulations at 15 CFR part 923, subpart L, require that state coastal management programs be evaluated concerning the extent to which the state has implemented and enforced the program approved by the Secretary, addressed the coastal management needs identified in 16 U.S.C. 1452(2)(A) through (K), and adhered to the terms of any grant, loan, or cooperative agreement funded under the CZMA. Section 1461(f) of the CZMA and implementing regulations at 15 CFR part 921, subpart E, require that national estuarine research reserves be evaluated with regard to their operation and management, including education and interpretive activities, the research being conducted within the reserve, and be evaluated in accordance with section 1458 of the CZMA and procedures set forth in 15 CFR part 923.

NOAA's Office of Ocean and Coastal Resource Management (OCRM) conducts periodic evaluations of the 34 coastal management programs and 28 research reserves and produces written findings for each evaluation. OCRM has access to documents submitted in cooperative agreement applications, performance reports, and certain documentation required by the CZMA and implementing regulations. However, additional information from each coastal management program and research reserve, as well as information from the program and reserve partners and stakeholders with whom each works, is necessary to evaluate against statutory and regulatory requirements. Different information collection subsets are necessary for (1) coastal management programs, (2) their partners and stakeholders, (3) research reserves, and (4) their partners and stakeholders.

Affected Public: State, local and tribal government; not-for-profit institutions.

Frequency: Conducted annually, but each program manager submits information only every five years.

Respondent's Obligation: Required to obtain or retain benefits; voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: January 9, 2013.
Gwellnar Banks,
Management Analyst, Office of the Chief Information Officer.

[FR Doc. 2013-00568 Filed 1-11-13; 8:45 am]

BILLING CODE 3510-08-P